DEPARTMENT OF DEFENSE

Department of Navy

32 CFR Part 701

Privacy Act of 1974; Implementation

AGENCY: U.S. Marine Corps, DoD.

ACTION: Final rule.

SUMMARY: The U.S. Marine Corps, as a principal component of the Department of Navy, is making this administrative amendment to combine like systems by removing an exempted system of records notice from its inventory, MMN00018, “Base Security Incident Report System”. The records will be maintained in the Department of Navy's exempted system of record notice NM05580-1, “Security Incident System”. Therefore, the MMN00018, “Base Security Incident Report System” exemption rule system is being deleted.

EFFECTIVE DATE: November 16, 2007.

FOR FURTHER INFORMATION CONTACT: Ms. Tracy D. Ross at (703) 614-4008.

SUPPLEMENTARY INFORMATION: The Department of Navy's exempted system of record notice NM05580-1, “Security Incident System” was published in the Federal Register on January 9, 2007 (72 FR 958).

List of Subjects in 32 CFR Part 701

Privacy.

Accordingly, 32 CFR part 701 subpart G is to be amended as follows:

PART 701—AVAILABILITY OF DEPARTMENT OF THE NAVY RECORDS AND PUBLICATION OF DEPARTMENT OF THE NAVY DOCUMENTS AFFECTING THE PUBLIC

Subpart G—Privacy Act Exemptions

1. The authority citation for 32 CFR part 701 continues to read as follows:

Authority: 5 U.S.C. 552.

§ 701.129 [Amended]

2. Section 701.129 is amended by removing and reserving paragraph (a).

Dated: November 7, 2007.
L.M. Bynum,
Alternate OSD Federal Register Liaison Officer, Department of Defense.

[FR Doc. E7-22195 Filed 11-15-07; 8:45 am]

BILLING CODE 5001-06-P